DEPARTMENT OF ENERGY

Federal Energy Regulatory Commission

[Docket No. CP03-59-001]

Questar Pipeline Company; Notice of Compliance Filing

May 13, 2003.

Take notice that on May 8, 2003, Questar Pipeline Company (Questar) tendered for filing as part of its FERC Gas Tariff, Original Volume No. 3, the following tariff sheets, to be effective March 1, 2003:

Eighth Revised Sheet No. 10

First Revised Sheet No. 520

Questar states that it filed an application under 7(b) of the Natural Gas Act in Docket No. CP03-59-000, on March 5, 2003, to abandon service under a certificated agreement between Questar and Mid-Power Resource Corporation (Mid-Power).

Questar further states that on March 1, 2003, Mid-Power signed a letter indicating its agreement to the abandonment of this service, and, on April 24, 2003, the Commission issued an order granting approval of the abandonment, effective March 1, 2003. Therefore, Questar filed to revise tariff sheets reflecting the cancellation of Rate Schedule X-34.

Questar states that a copy of this filing has been served upon Questar's customers, the Public Service Commission of Utah and the Public Service Commission of Wyoming.

Any person desiring to protest said filing should file a protest with the Federal Energy Regulatory Commission, 888 First Street, NE., Washington, DC 20426, in accordance with Section 385.211 of the Commission's Rules and Regulations. All such protests must be filed in accordance with Section 154.210 of the Commission's Regulations. Protests will be considered by the Commission in determining the appropriate action to be taken, but will not serve to make protestants parties to the proceedings. This filing is available for review at the Commission in the Public Reference Room or may be viewed on the Commission's Web site at http://www.ferc.gov using the “FERRIS” link. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Protest Date: May 20, 2003.

Magalie R. Salas,
Secretary.

[FR Doc. 03-12437 Filed 5-16-03; 8:45 am]

BILLING CODE 6717-01-P